DEPARTMENT OF THE TREASURY

Submission for OMB Review; Comment Request

July 13, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 21, 2000 to be assured of consideration.

Internal Revenue Service (IRS)

OMB Number: 1545-0160.

Form Number: IRS Form 3520.

Type of Review: Revision.

Title: Annual Information Return of Foreign Trust With a U.S. Owner.

Description: Section 6048(b) requires that foreign trusts with at least one U.S. beneficiary must file an annual information return on Form 3520-A. The form is used to report the income and deductions of the foreign trust and provide statements to the U.S. owners and beneficiaries. IRS uses Form 3520-A to determine if the U.S. owner of the trust has included the net income of the trust in it's gross income.

Respondents: Individuals or households, Business or other for-profit.

Estimated Number of Respondents/Recordkeepers: 500.

Estimated Burden Hours Per Respondent/Recordkeeper:

Recordkeeping—36 hr., 50 min.

Learning about the law or the form—3 hr., 5 min.

Preparing and sending the form to the IRS—3 hr., 49 min.

Frequency of Response: Annually.

Estimated Total Reporting/Recordkeeping Burden: 21,860 hours.

OMB Number: 1545-0192.

Form Number: IRS Form 4970.

Type of Review: Extension.

Title: Tax on Accumulation Distribution of Trusts.

Description: Form 4970 is used by a beneficiary of a domestic or foreign trust to compute the tax adjustment attributable to an accumulation distribution. The form is used to verify whether the correct tax has been paid on the accumulation distribution.

Respondents: Individuals or households.

Estimated Number of Respondents/Recordkeepers: 30,000.

Estimated Burden Hours Per Respondent/Recordkeeper:

Recordkeeping—1 hr., 12 min.

Learning about the law or the form—15 min.

Preparing the form—1 hr., 26 min.

Copying, assembling, and sending the form to the IRS—20 min.

Frequency of Response: Annually.

Estimated Total Reporting/Recordkeeping Burden: 96,600.

OMB Number: 1545-0193.

Form Number: IRS Form 4972.

Type of Review: Revision.

Title: Tax on Lump-Sum Distributions (From Qualified Retirement Plans of Plan Participants Born Before 1936).

Description: Internal Revenue Code (IRC) Section 402(e) allows taxpayers to compute a separate tax on lump-sum distribution from a qualified retirement plan. Form 4972 is used to correctly figure that tax. The data is used to verify the correctness of the separate tax. Form 4972 is also used to make the special 20% capital gain election attributable to pre-1974 participation from the lump-sum distribution.

Respondents: Individuals or households.

Estimated Number of Respondents/Recordkeepers: 35,000.

Estimated Burden Hours Per Respondent/Recordkeeper:

Recordkeeping—52 min.

Learning about the law or the form—20 min.

Preparing the form—1 hr., 11 min.

Copying, assembling, and sending the form to the IRS—20 min.

Frequency of Response: Annually.

Estimated Total Reporting/Recordkeeping Burden: 95,550.

OMB Number: 1545-0890.

Form Number: IRS Form 1120-A.

Type of Review: Extension.

Title: U.S. Corporation Short-Form Income Tax Return.

Description: Form 1120-A is used by small corporations, those with less than $500,000 of income and assets, to compute their taxable income and tax liability. The IRS uses Form 1120-A to determine whether corporations have correctly computed their tax liability.

Respondents: Business or other for-profit, Farms.

Estimated Number of Respondents/Recordkeepers: 285,777.

Estimated Burden Hours Per Respondent/Recordkeeper:

Form | Recordkeeping | Learning about the law or the form | Preparing the form | Copying, assembling, and sending the form to the IRS
1120 | 71 hr., 59 min | 41 hr., 10 min | 71 hr., 8 min | 7 hr., 47 min.
1120-A | 44 hr., 43 min | 22 hr., 51 min | 40 hr., 25 min | 4 hr., 29 min.
Schedule D (1120) | 6 hr., 56 min | 3 hr., 31 min | 5 hr., 39 min | 32 min.
Schedule H (1120) | 5 hr., 59 min | 35 min | 43 min | 0 min.
Schedule PH (1120) | 15 hr., 19 min | 6 hr., 12 min | 8 hr., 35 min | 32 min.

Frequency of Response: Annually.

Estimated Total Reporting/Recordkeeping Burden: 32,161,344.

OMB Number: 1545-1014.

Form Number: IRS Form 1066 and Schedule Q (Form 1066).

Type of Review: Extension.

Title: U.S. Real Estate Mortgage Investment Conduit (REMIC) Income Tax Return (Form 1066); and Quarterly Notice to Residual Interest Holder of REMIC Taxable Income or Net Loss Allocation (Schedule Q).

Description: Form 1066 and Schedule Q (Form 1066) are used by a real estate mortgage investment conduit (REMIC) to figure its tax liability and income and other tax-related information to pass through to its residual holders. IRS uses the information to determine the correct tax liability of the REMIC and its residual holders.

Respondents: Business or other for-profit.

Estimated Number of Respondents/Recordkeepers: 4,917.

Estimated Burden Hours Per Respondent/Recordkeeper:

| Form 1066 | Schedule Q (Form 1066)
Recordkeeping | 31 hr., 49 min | 6 hr., 28 min.
Learning about the law or the form | 8 hr., 27 min | 1 hr., 41 min.
Preparing the form | 12 hr., 8 min | 1 hr., 52 min.
Copying, assembling, and sending the form to the IRS | 48 min | 0 min.

Frequency of Response: Annually.

Estimated Total Reporting/Recordkeeping Burden: 753,776.

OMB Number: 1545-1020.

Form Number: IRS Form 1041-T.

Type of Review: Extension.

Title: Allocation of Estimated Tax Payments to Beneficiaries.

Description: This form was developed to allow a trustee of a trust or an executor of an estate to make an election under Internal Revenue Code (IRC) section 643(g) to allocate any payment of estimated tax to a beneficiary(ies). This form serves as a transmittal so that Service Center personnel can determine the correct amounts that are to be transferred from the fiduciary's account to the individual's account.

Respondents: Business or other for-profit.

Estimated Number of Respondents/Recordkeepers: 1,000.

Estimated Burden Hours Per Respondent/Recordkeeper:

Recordkeeping—20 min.

Learning about the law or the form—5 min.

Preparing the form—18 min.

Copying, assembling, and sending the form to the IRS—17 min.

Frequency of Response: Other (When such election is made.).

Estimated Total Reporting/Recordkeeping Burden: 1,010.

OMB Number: 1545-1181.

Form Number: IRS Form 8752.

Type of Review: Extension.

Title: Required Payment or Refund Under Section 7519.

Description: This form is used to verify that partnerships and S corporations that have made a section 444 election have correctly reported the payment required under section 7519.

Respondents: Business or other for-profit.

Estimated Number of Respondents/Recordkeepers: 72,000.

Estimated Burden Hours Per Respondent/Recordkeeper:

Recordkeeping—5 hr., 44 min.

Learning about the law or the form—1 hr., 0 min.

Preparing, copying, assembling, and sending the form to the IRS—1 hr., 7 min.

Frequency of Response: 72,000

Estimated Total Reporting/Recordkeeping Burden: 565,920.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-18320 Filed 7-19-00; 8:45 am]

BILLING CODE 4830-01-P